DEPARTMENT OF ENERGY

Federal Energy Regulatory Commission

[Docket No. CP17-409-000]

DTE Midstream Appalachia, LLC; Notice of Schedule for Environmental Review of the Birdsboro Pipeline Project

On May 1, 2017, DTE Midstream Appalachia, LLC (DTE) filed an application in Docket No. CP17-409-000 requesting a Certificate of Public Convenience and Necessity pursuant to Section 7(c) of the Natural Gas Act to construct and operate certain natural gas pipeline facilities. The proposed project is known as the Birdsboro Pipeline Project (Project), and would provide approximately 79 million cubic feet per day of firm transportation service from an interconnect with the Texas Eastern Transmission Company pipeline system to the Birdsboro Power Facility in Birdsboro, Pennsylvania.

On May 9, 2017, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—November 15, 2017

90-day Federal Authorization Decision Deadline—February 13, 2018

If a schedule change becomes necessary, additional notice will be provided so that the relevant agencies are kept informed of the Project's progress.

Project Description

DTE is seeking to construct and operate approximately 13.2 miles of 12-inch-diameter natural gas transmission pipeline in Berks County, Pennsylvania. The Project would also involve construction of a new meter station and appurtenant facilities. The Project would deliver firm transportation service from an interconnect with the Texas Eastern Transmission Company pipeline system in Rockland Township to the Birdsboro Power Facility in the Borough of Birdsboro.

Background

On January 18, 2017, the Commission issued a Notice of Intent to Prepare an Environmental Assessment for the Planned Birdsboro Pipeline Project, and Request for Comments on Environmental Issues, and Notice of Public Scoping Session (NOI). The NOI was issued during the pre-filing review of the Project in Docket No. PF17-1-000 and was sent to affected landowners; federal, state, and local government agencies; elected officials; environmental and public interest groups; Native American tribes; other interested parties; and local libraries and newspapers. In response to the NOI, the Commission received comments from the U.S. Army Corps of Engineers, the U.S. Environmental Protection Agency, the Stockbridge Munsee Tribal Historic Preservation Officer, the Pennsylvania Department of Environmental Protection, the Pennsylvania Game Commission, Berks County, and multiple non-governmental organizations and members of the public. The primary issues raised by the commentors are cultural and historic resources, including the Oley Township Historic District; construction of the non-jurisdictional Birdsboro Power Plant; geologic concerns, including karst terrain and blasting at an existing quarry; and impacts on streams, wetlands, and wildlife habitat.

The U.S. Army Corps of Engineers and the U.S. Environmental Protection Agency are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the eLibrary link, select General Search from the eLibrary menu, enter the selected date range and Docket Number excluding the last three digits (i.e., CP17-409), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: October 5, 2017.
Kimberly D. Bose,
Secretary.

[FR Doc. 2017-22001 Filed 10-11-17; 8:45 am]

BILLING CODE 6717-01-P